DEPARTMENT OF DEFENSE

Office of the Secretary

[Docket ID: DoD-2013-OS-0185]

Proposed Collection; Comment Request

AGENCY: Office of the Under Secretary of Defense for Personnel and Readiness, DoD.

ACTION: Notice.

SUMMARY: In compliance with Section 3506(c)(2)(A) of the Paperwork Reduction Act of 1995, the Office of the Under Secretary of Defense for Personnel and Readiness announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 4, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please contact the Office of the Under Secretary of Defense for Personnel and Readiness, Mr. Eddy Mentzer at (571) 372-0857.

SUPPLEMENTARY INFORMATION:

Title; Associated Form; and OMB Number: Department of Defense Child Development Program (CDP); DD 2652, DD 2606; OMB Control Number 0704-TBD.

Needs and Uses: The information collection requirement is necessary for program planning and management purposes. Respondents include non-federal customers (generally contractors) enrolling their children in the DoD CDP.

Affected Public: Individuals or households.

Annual Burden Hours: 832.

Number of Respondents: 5,000.

Responses per Respondent: 1.

Average Burden per Response: 10 minutes.

Frequency: On occasion.

The information from the DD 2606 is used to place applicants into programs or onto waiting lists for child development program services. It is also used to assist management in the determination in the effectiveness of present and projection of future program requirements. The information in DD 2652 is used to apply child care fee subsidies for families enrolled in the DoD CDP.

Dated: August 30, 2013.
Aaron Siegel,
Alternate OSD Federal Register Liaison Officer, Department of Defense.

[FR Doc. 2013-21581 Filed 9-4-13; 8:45 am]

BILLING CODE 5001-06-P